DEPARTMENT OF THE INTERIOR

Fish and Wildlife Service

Receipt of Application for an Incidental Take Permit for Proposed Road Construction and Multi-Family Housing Development by the Litchfield Company, Georgetown County, South Carolina

AGENCY: Fish and Wildlife Service, Interior

ACTION: Notice.

SUMMARY: The Litchfield Company (Applicant) requests an incidental take permit (Permit) pursuant to section 10(a)(1)(B) of the Endangered Species Act of 1973 (U.S.C. 1531 et seq.), as amended (Act). The Applicant anticipates taking one breeding group of red-cockaded woodpeckers (Picoides borealis) (RCW) incidental to (1) construction activities for a multi-family housing development and (2) road building and usage during the RCW nesting season. The project site is about 3,600 feet west-northwest of the intersection of Highway 17 and Willbrook Boulevard at Litchfield Beach, Georgetown County, South Carolina. Foraging habitat will be impacted, but will not fall below recommended minimums as outlined in the Service's Guidelines for RCW Management on Private Lands. No cavity trees will be removed. However, construction activities (residential and road) and road usage within 400 feet of active cavity trees may harass the RCWs. A more detailed description of the mitigation and minimization measures to address the effects of the Project to the protected species are outlined in the Applicant's Habitat Conservation Plan (Plan), and in the SUPPLEMENTARY INFORMATION section below. The Service has determined that the Applicant's proposal, including the proposed mitigation and minimization measures, will individually and cumulatively have a minor or negligible effect on the species covered in the Plan. Therefore, the Permit is a “low effect” project and would qualify as a categorical exclusion under the National Environmental Policy Act (NEPA), as provided by the Department of Interior Manual (516 DM2, Appendix 1 and 516 DM 6, Appendix 1).

The Service also announces the availability of the Plan and our determination of Categorical Exclusion for the incidental take application. Copies of the Plan and Service supporting documents may be obtained by making a request to the Regional Office (see ADDRESSES). Requests must be in writing to be processed. This notice is provided pursuant to Section 10 of the Endangered Species Act and NEPA regulations (40 CFR 1506.6).

The Service specifically requests information, views, and opinions from the public via this Notice on the Federal action. Further, the Service specifically solicits information regarding the adequacy of the Plan as measured against the Service's Permit issuance criteria found in 50 CFR Parts 13 and 17.

If you wish to comment, you may submit comments by any one of several methods. You may mail comments to the Service's Regional Office (see ADDRESSES). You may also comment via the internet to “david_dell@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not; however, consider anonymous comments. We will make all submissions from organizations or businesses, and from individuals identifying themselves as representatives or officials of organizations or businesses, available for public inspection in their entirety.

Written comments on the permit application, supporting documentation, and Plan should be sent to the Service's Regional Office (see ADDRESSES) and should be received on or before July 21, 2000.

ADDRESSES: Persons wishing to review the application, Plan, and supporting documentation may obtain a copy by writing the Service's Southeast Regional Office, Atlanta, Georgia. Documents will also be available for public inspection by appointment during normal business hours at the Regional Office, 1875 Century Boulevard, Suite 200, Atlanta, Georgia 30345 (Attn: Endangered Species Permits), or Field Supervisor, U.S. Fish and Wildlife Service, Post Office Box 12559, Charleston, South Carolina 29422-2559. Written data or comments concerning the application, supporting documention, or Plan should be submitted to the Regional Office. Requests for the documentation must be in writing to be processed. Comments must be submitted in writing to be adequately considered in the Service's decision-making process. Please reference permit number TE028745-0 in such comments, or in requests of the documents discussed herein.

FOR FURTHER INFORMATION CONTACT: Mr. David Dell, Regional Coordinator, (see ADDRESSES above), telephone: 404/679-7313, facsimile: 404/679-7081; or Ms. Lori Duncan, Fish and Wildlife Biologist, Charleston Field Office, Charleston, South Carolina (see ADDRESSES above), telephone: 843/727-4707 ext. 21.

SUPPLEMENTARY INFORMATION: The RCW is a territorial, non-migratory cooperative breeding bird species. RCWs live in social units called groups which generally consist of a breeding pair, the current year's offspring, and one or more helpers (normally adult male offspring of the breeding pair from previous years). Groups maintain year-round territories near their roost and nest trees. The RCW is unique among the North American woodpeckers in that it is the only woodpecker that excavates its roost and nest cavities in living pine trees. Each group member has its own cavity, although there may be multiple cavities in a single pine tree. The aggregate of cavity trees is called a cluster. RCWs forage almost exclusively on pine trees and they generally prefer pines greater than 10 inches diameter at breast height. Foraging habitat is contiguous with the cluster. The number of acres required to supply adequate foraging habitat depends on the quantity and quality of the pine stems available. The RCW is endemic to the pine forests of the Southeastern United States and was once widely distributed across 16 States. The species evolved in a mature fire-maintained ecosystem. The RCW has declined primarily due to the conversion of mature pine forests to young pine plantations, agricultural fields, and residential and commercial developments, and to hardwood encroachment in existing pine forests due to fire suppression. The species is still widely distributed (presently occurs in 13 southeastern States), but remaining populations are highly fragmented and isolated. Presently, the largest known populations occur on federally owned lands such as military installations and national forests.

In South Carolina, there are an estimated 1,000 active RCW clusters; 50 percent are on Federal lands, 10 percent are on State lands, and 40 percent are on private lands (pers. com. S. Lohr, SCDNR).

There has not been a complete inventory of RCWs in South Carolina so it is difficult to precisely assess the species' overall status in the State. However, the known populations on public lands are regularly monitored and generally considered stable. While several new active RCW clusters have been discovered on private lands over the past few years, many previously documented RCW clusters have been lost. It is expected that the RCW population on private lands in South Carolina will continue to decline, especially those from small tracts isolated from other RCW populations.

An initial survey of the Applicant's property was conducted in May and June, 1997. It revealed 2 RCW clusters in the vicinity (cluster 3 and 4). Cluster 3 has a total of 22 cavity trees, 11 of which are on Willbrook Plantation, owned by the Applicant, 4 of these are active. The remaining Cluster 3 cavity trees are on adjacent property. All of the cavity trees for Cluster 4 are on adjacent property, but some foraging habitat responsibility lies with Applicant. The Applicant will also provide a small amount of foraging habitat for a third cluster north of Sandy Island Road. The breeding pair produced no offspring in 1998 and one male offspring in 1999. The nearest known RCWs are about 5 groups on the adjacent property to the north owned by Brookgreen Gardens. The next closest known active clusters are on Sandy Island (about 39 groups), about 2 miles northwest and on Prince George Plantation, about 2 miles south (mitigation site) (2 groups).

The Service worked with the Applicant in the design of the minimization and mitigation measures. To minimize impacts to the RCW from the proposed development, the Applicant will incorporate the following measures in the project:

1. The Applicant agrees to allow Fish and Wildlife Service and South Carolina Department of Natural Resources personnel to enter the property for general purposes.

2. The Applicant will conduct monitoring activities for a period of 5 years.

3. The Applicant will provide adequate foraging habitat for Cluster #3 (based on the Private Lands Guidelines) and a percentage of the foraging habitat for two additional clusters on adjacent property.

4. The Applicant will place restrictive covenants on property within the development to prevent the planting of hardwoods, and to maintain the landscape as RCW foraging habitat.

5. The Applicant will allow for the installation of artificial cavities in the common areas of the proposed development.

To mitigate for the groups to be taken, the applicant will do the following:

1. The Applicant will purchase credit for a breeding pair from Prince George Plantation. They have provisioned three recruitment clusters and implemented habitat improvement activities to increase their safe harbor baseline by one group.

The Service has therefore determined that approval of the Plan qualifies as a categorical exclusion under NEPA, as provided by the Department of the Interior Manual (516 DM 2, Appendix 1 and 516 DM 6, Appendix 1). No further NEPA determination will therefore be prepared.

The Service will evaluate the Plan and comments submitted thereon to determine whether the application meets the requirements of Section 10(a) of the Act. If it is determined that those requirements are met, the Permit will be issued for the incidental take of RCWs on the applicant's project site. The Service will also evaluate whether the issuance of a section 10(a)(1)(B) Permit complies with Section 7 of the Act by conducting an intra-Service Section 7 consultation. The results of the biological opinion, in combination with the above findings, will be used in the final analysis to determine whether or not to issue the Permit.

Dated: June 15, 2000.
H. Dale Hall,
Acting Regional Director.

[FR Doc. 00-15580 Filed 6-20-00; 8:45 am]

BILLING CODE 4310-55-P